DEPARTMENT OF THE INTERIOR

Bureau of Land Management

[LLIDT02000.L12200000.MA0000.241A.00]

Notice of Intent To Prepare a Resource Management Plan (RMP) Amendment and Associated Environmental Assessment for the Castle Rocks and Cedar Fields Areas, Burley Field Office, ID

AGENCY: Bureau of Land Management, Interior.

ACTION: Notice of Intent.

SUMMARY: In compliance with the National Environmental Policy Act of 1969, as amended, and the Federal Land Policy and Management Act of 1976, as amended, the Bureau of Land Management (BLM) Burley Field Office, Burley, Idaho intends to prepare a Resource Management Plan (RMP) amendment with an associated Environmental Assessment (EA) for the Cassia and Monument RMPs to consider closing BLM-managed lands to certain activities to protect cultural and historic properties, and by this notice is announcing the beginning of the scoping process to solicit public comments and identify issues.

DATES: This notice initiates the public scoping process for the RMP amendment with an associated EA. Comments on issues may be submitted in writing until September 22, 2011. The date(s) and location(s) of any scoping meetings will be announced at least 15 days in advance through local media, newspapers and the BLM Web site at: http://www.blm.gov/id/st/en/info/nepa.html. In order to be included in the EA, all comments must be received prior to the close of the 30-day scoping period or 30 days after the last public meeting, whichever is later.

ADDRESSES: You may submit comments on issues and planning criteria related to Castle Rocks and Cedar Fields Land Use Plan Amendment by any of the following methods:

• Web site: http://www.blm.gov/id/st/en/info/nepa.html

• E-mail: id_burley_fo_@blm.gov

• Fax: 208-677-6699

• Mail: 15 East 200 South, Burley, Idaho 83318

Documents pertinent to this proposal may be examined at the Burley Field Office.

FOR FURTHER INFORMATION CONTACT: Contact Dennis Thompson, Outdoor Recreation Planner, for further information and/or to have your name added to the Burley BLM's mailing list, at telephone 208-677-6664; address 15 East 200 South, Burley, Idaho 83318; or e-mail dennis_thompson@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This document provides notice that the BLM Field Office, Burley Idaho, intends to prepare an RMP Amendment with an associated EA for the Cassia and Monument RMPs, announces the beginning of the the scoping process, and is seeking public input on issues and planning criteria. The planning area is located in Cassia and Power Counties, Idaho and encompasses approximately 1,556 acres of public land. The purpose of the public scoping process is to determine relevant issues that will influence the scope of the environmental analysis, including alternatives, and guide the planning process. The BLM has identified the following preliminary issues: the potential for damage to cultural resources within the American Falls Archeological District at Cedar Fields from rock climbing and other recreational activities; potential adverse affects on Historic Properties at Castle Rocks from rock climbing and other recreational activities; and the impact that closures to certain activities would have on recreational climbing in the area.

At Cedar Fields, ongoing climbing activities have the potential to damage cultural resources located within an Archeological District. In 2010, the BLM prepared an EA to address similar concerns at Castle Rocks. The proposed action within the Castle Rocks EA would have allowed limited climbing and trail construction. However, due to potential adverse cumulative effects of rock climbing activities on Historic Properties (as defined in 36 CFR 800.5(a)(1) and 800.16(l)(1)), a Finding of No Significant Impact (FONSI) could not be reached for the Castle Rocks EA (EA ID-220-2009-EA-3768). The EA was finalized on March 29, 2010, sent out to interested members of the public, and posted to the BLM Idaho Web site. Subsequently, a temporary closure notice was published in the Federal Register in November 2010, which closed BLM-managed lands in the Castle Rocks Inter-Agency Recreation Area to climbing, staging, camping, and construction of new trails. This closure will remain in effect until November 16, 2012.

The RMP Amendment and associated EA will consider the permanent designation of no climbing, no staging, no camping, and no construction of new trails on BLM-managed lands at Castle Rocks Inter-Agency Recreation Area and at Cedar Fields. If a closure is necessary to protect Historic Properties at Castle Rocks and cultural resources in the Archeological District at Cedar Fields, the BLM will make a decision about whether to amend the Cassia and Monument RMPs and will address allowable uses of resources, and intensity and limits of use.

You may submit comments on issues and planning criteria for the Plan Amendments in writing to the BLM at any public scoping meeting, or you may submit them to the BLM using one of the methods listed in the ADDRESSES section above. To be most helpful, you should submit comments by the close of the 30-day scoping period or within 30 days after the last public meeting, whichever is later. Before including your address, phone number, e-mail address, or other personal identifying information in your comment, you should be aware that your entire comment—including your personal identifying information—may be made publicly available at any time. While you can ask us in your comment to withhold your personal identifying information from public review, we cannot guarantee that we will be able to do so.

The BLM will use an interdisciplinary approach to develop the plan in order to consider the variety of resource issues and concerns identified. Specialists with expertise in the following disciplines will be involved in the planning process: minerals and geology, outdoor recreation, archaeology, wildlife, and soils.

Authority: 40 CFR 1501.7 and 43 CFR 1610.2

Michael Courtney,
Field Manager.

[FR Doc. 2011-21560 Filed 8-22-11; 8:45 am]

BILLING CODE 4310-GG-P